DEPARTMENT OF HEALTH AND HUMAN SERVICES

Centers for Disease Control and Prevention

[30-Day-14-0881]

Agency Forms Undergoing Paperwork Reduction Act Review; Data Calls for the Laboratory Response Network; Cancellation

AGENCY: Centers for Disease Control and Prevention (CDC), National Center for Emerging and Zoonotic Infectious Diseases (NCEZID), Department of Health and Human Services (HHS).

ACTION: Notice cancellation.

SUMMARY: The Centers for Disease Control and Prevention is cancelling the 30-Day Information Collection Request, 14-0881, concerning the Data Calls for the Laboratory Response Network (79 FR 4165), published January 24, 2014.

The purpose behind this notice cancellation is that a 60-day FRN was previously published on December 2, 2013 (78 FR 27087). The public must have 60 days to provide comment to the agency's 60-day FRN. The agency should not publish a 30-day FRN until all public comments have been received.

DATES: The 30-day FRN published on January 24, 2014 at 79 FR 4165 is withdrawn as of January 27, 2014. FOR FURTHER INFORMATION CONTACT: (404) 639-7570 or send comments to CDC: LeRoy Richardson, 1600 Clifton Road, MS D-74, Atlanta, GA 30333 or send an email to omb@cdc.gov.

LeRoy A. Richardson,
Chief, Information Collection Review Office, Office of Scientific Integrity, Office of the Associate Director for Science, Office of the Director, Centers for Disease Control and Prevention.

[FR Doc. 2014-01977 Filed 1-30-14; 8:45 am]

BILLING CODE 4163-18-P